DEPARTMENT OF ENERGY

Federal Energy Regulatory Commission

Sunshine Act Meeting Notice

December 10, 2009.

The following notice of meeting is published pursuant to section 3(a) of the government in the Sunshine Act (Pub. L. 94-409), 5 U.S.C. 552b:

Agency Holding Meeting: Federal Energy Regulatory Commission.

Date and Time: December 17, 2009; 10 a.m.

Place: Room 2C, 888 First Street, NE., Washington, DC 20426.

Status: Open.

Matters to be Considered: Agenda.

* Note: Items listed on the agenda may be deleted without further notice.

Contact Person for More Information: Kimberly D. Bose, Secretary, Telephone (202) 502-8400. For a recorded message listing items struck from or added to the meeting, call (202) 502-8627.

This is a list of matters to be considered by the Commission. It does not include a listing of all documents relevant to the items on the agenda. All public documents, however, may be viewed online at the Commission's Web site at http://www.ferc.gov using the eLibrary link, or may be examined in the Commission's Public Reference Room.

954TH—MEETING
[Regular meeting, December 17, 2009]
Item No. | Docket No. | Company
Administrative
A-1 | AD02-1-000 | Agency Administrative Matters—FERC Strategic Plan.
A-2 | AD02-7-000 | Customer Matters, Reliability, Security and Market Operations.
A-3 | AD06-3-000 | 2009 Report on Enforcement.
Electric
E-1 | ER99-1773-009 | AES Creative Resources, L.P.
| ER99-2284-009 | AEE 2, L.L.C.
| ER99-1761-005 | AES Eastern Energy, L.P.
| ER00-1026-016 | Indianapolis Power & Light Company.
| ER01-1315-005 | AES Ironwood, L.L.C.
| ER01-2401-011 | AES Red Oak, L.L.C.
| ER98-2184-014 | AES Huntington Beach, L.L.C.
| ER98-2816-015 | AES Redondo Beach, L.L.C.
| ER00-33-011 | AES Placertia, Inc.
| ER05-442-003 | Condon Wind Power, LLC.
| ER98-2185-014 | AES Alamitos, Inc.
| ER99-1228-007 | Storm Lake Power Partners II, LLC.
| ER97-2904-008 | Lake Benton Power Partners, LLC.
| ER01-751-010, ER01-751-012 | Mountain View Power Partners, LLC.
E-2 | ER09-1589-000, EL10-6-000 | FirstEnergy Service Company. FirstEnergy Service Company v. PJM Interconnection, L.L.C.
E-3 | ER09-1063-000, ER09-1063-001 | PJM Interconnection, L.L.C.
E-4 | EL09-72-000 | Pacific Gas and Electric Company.
E-5 | EL10-3-000 | Citizens Energy Corporation.
E-6 | RM09-8-000 | Revised Mandatory Reliability Standards for Interchange Scheduling and Coordination.
E-7 | RM07-19-002 | Wholesale Competition in Regions with Organized Electric Markets.
E-8 | RM06-22-010 | Mandatory Reliability Standards for Critical Infrastructure Protection.
E-9 | RD09-7-001 | North American Electric Reliability Corporation.
E-10 | ER10-116-000 | Trans Bay Cable LLC.
E-11 | ER08-1113-004, ER08-1113-005, ER06-615-046 | California Independent System Operator Corporation.
E-12 | ER09-1254-001 | Southwest Power Pool, Inc.
E-13 | OMITTED |
E-14 | OMITTED |
E-15 | OMITTED |
E-16 | EL10-2-000 | San Diego Gas & Electric Company.
E-17 | EL00-66-013 | Louisiana Public Service Commission and the City Council of New Orleans v. Entergy Corporation.
| EL95-33-009 | Louisiana Public Service Commission v. Entergy Services, Inc.
E-18 | EL01-88-007 | Louisiana Public Service Commission v. Federal Energy Regulatory Commission.
E-19 | EL08-59-001 | ConocoPhillips Company v. Entergy Services, Inc.
E-20 | ER09-88-003 | Southern Company Services, Inc.
E-21 | EL09-68-000 | PJM Interconnection, L.L.C.
E-22 | ER09-635-000, ER09-635-001, ER09-635-002 | Southern Company Services, Inc.
Miscellaneous
M-1 | PL10-2-000 | Enforcement of Statutes, Regulations, and Orders.
M-2 | PL10-1-000 | Enforcement of Statutes, Regulations, and Orders.
M-3 | RM09-21-000 | Revised Filing Requirements for Centralized Service Companies Under the Public Utility Holding Company Act of 2005, the Federal Power Act, and the Natural Gas Act.
Gas
G-1 | RP04-274-015, RP04-274-008, RP04-274-016, RP04-274-017, RP04-274-018, RP04-274-019 | Kern River Gas Transmission Company.
G-2 | IS08-302-003 | SFPP, L.P.
| OR08-15-001 | ExxonMobil Oil Corporation and BP West Coast Products LLC v. SFPP, LP.
| OR09-8-000 | Chevron Products Company v. SFPP, L.P.
| OR09-18-000 | Tesoro Refining and Marketing Company v. SFPP, L.P.
Hydro
H-1 | P-2153-015 | United Water Conservation District.
H-2 | P-13443-001, P-13448-001, P-13454-001 | McGinnis, Inc.
H-3 | P-184-196 | El Dorado Irrigation District (CA).
H-4 | HB131-08-1-000 | PPL Maine, LLC, PPL Great Works, LLC, and Bangor Pacific Hydro Associates.
Certificates
C-1 | CP07-441-000, CP07-442-000, CP07-443-000 | Pacific Connector Gas Pipeline, LP.
| CP07-444-000 | Jordan Cove Energy Project, L.P.
C-2 | CP07-62-001 | AES Sparrows Point LNG, LLC.
| CP07-63-001, CP07-64-001, CP07-65-001 | Mid-Atlantic Express, LLC.
C-3 | CP09-433-000 | Fayetteville Express Pipeline LLC.
C-4 | CP09-38-000 | Transcontinental Gas Pipe Line Company, LLC and Copano Field Services/Central Gulf Coast, L.P.
C-5 | CP02-48-000, CP02-53-000 | National Fuel Gas Supply Corporation.

Kimberly D. Bose,
Secretary.

A free Web cast of this event is available through http://www.ferc.gov. Anyone with Internet access who desires to view this event can do so by navigating to http://www.ferc.gov's Calendar of Events and locating this event in the Calendar. The event will contain a link to its Web cast. The Capitol Connection provides technical support for the free Web casts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. E9-29903 Filed 12-11-09; 4:15 pm]

BILLING CODE 6717-01-P